DEPARTMENT OF AGRICULTURE

Submission for OMB Review; Comment Request

March 26, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 29, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Agricultural Trade Promotion Program.

OMB Control Number: 0551-0049.

Summary of Collection: The authority for the Agricultural Trade Promotion Program (ATP) is contained in the authority derived from the Commodity Credit Corporation (CCC) Charter Act, 15 U.S.C. 714c(f)—Specific Powers of Corporation. Program regulations were necessary to establish this new CCC program. The ATP is a cost-share program that is designed to reimburse nonprofit U.S. agricultural trade organizations, nonprofit state regional trade groups, U.S. agricultural cooperatives, and state agencies that conduct approved foreign market development activities and have suffered damages because of tariffs imposed on U.S. agricultural products in 2018/2019. Financial assistance for the ATP is made available on a competitive basis. The program is administered by the Foreign Agricultural Service (FAS).

Need and Use of the Information: The information collected is used by FAS marketing specialists and program managers for the allocation of funds, program management, planning, and evaluation. The integrity of the program hinges on information received from or maintained by the industry.

Description of Respondents: Not-for-profit institutions; State, Local or Tribal Government.

Number of Respondents: 71.

Frequency of Responses: Recordkeeping; Reporting: On occasion; Annually.

Total Burden Hours: 63,978.

Ruth Brown,
Departmental Information Collection Clearance Officer.

[FR Doc. 2019-06102 Filed 3-28-19; 8:45 am]

BILLING CODE 3410-10-P